DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2022, through April 30, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Sherrie Grabp on behalf of Judith Grabp, Deceased, Buffalo, New York, Court of Federal Claims No: 22-0375V

2. Douglas Berman, Boston, Massachusetts, Court of Federal Claims No: 22-0380V

3. Tommy E. Martin, Charlotte, North Carolina, Court of Federal Claims No: 22-0384V

4. Katelin Whiddon, Conway, Arkansas, Court of Federal Claims No: 22-0385V

5. Bridgette Melvin, Oswego, New York, Court of Federal Claims No: 22-0386V

6. Rasheedah Smith, Atlanta, Georgia, Court of Federal Claims No: 22-0387V

7. Sheila Porter, Goodyear, Arizona, Court of Federal Claims No: 22-0389V

8. Mark Humpfer, Schererville, Indiana, Court of Federal Claims No: 22-0390V

9. Darla Wilson, Bloomington, Indiana, Court of Federal Claims No: 22-0393V

10. Maria Schory, Grand Island, New York, Court of Federal Claims No: 22-0394V

11. Josie Ransom, Athens, Georgia, Court of Federal Claims No: 22-0395V

12. Deborah Precil, Maple Shade, New Jersey, Court of Federal Claims No: 22-0396V

13. Rodney Moore, Columbia, Maryland, Court of Federal Claims No: 22-0397V

14. Xania Murray, Denton, Texas, Court of Federal Claims No: 22-0398V

15. Amanda Seigel, Perry, Michigan, Court of Federal Claims No: 22-0399V

16. Jason Brose, Chester Springs, Pennsylvania, Court of Federal Claims No: 22-0401V

17. Krzysztof Kosmicki, Cheyenne, Wyoming, Court of Federal Claims No: 22-0402V

18. Donna Nemuras, Hancock, Maryland, Court of Federal Claims No: 22-0403V

19. Marie Sroka, Walton, New York, Court of Federal Claims No: 22-0405V

20. Brigette Klish, Urbana, Illinois, Court of Federal Claims No: 22-0408V

21. Arlene Weiss, Delray Beach, Florida, Court of Federal Claims No: 22-0409V

22. Ryan Mehm on behalf of C. M., Gaithersburg, Maryland, Court of Federal Claims No: 22-0413V

23. Homer Stine, Ponte Vedra, Florida, Court of Federal Claims No: 22-0415V

24. Mary Flatt, Des Moines, Iowa, Court of Federal Claims No: 22-0416V

25. Shelly Vera, Houston, Texas, Court of Federal Claims No: 22-0421V

26. Sherri Smilow, Robbinsville, New Jersey, Court of Federal Claims No: 22-0425V

27. Doris Clark, Madisonville, Kentucky, Court of Federal Claims No: 22-0427V

28. Kelsey Jaranilla and Ryan Jaranilla on behalf of B. J., Salem, Oregon, Court of Federal Claims No: 22-0428V

29. Steven Koruan, Boston, Massachusetts, Court of Federal Claims No: 22-0430V

30. Amy Scarfpin, Westerville, Ohio, Court of Federal Claims No: 22-0431V

31. Antoinette Harris, Heath Springs, South Carolina, Court of Federal Claims No: 22-0432V

32. Christine Madden, Chicago, Illinois, Court of Federal Claims No: 22-0433V

33. Brenda McGaha, Farmington, New Mexico, Court of Federal Claims No: 22-0436V

34. Tammy Beaver, Houston, Texas, Court of Federal Claims No: 22-0439V

35. Emily Cafarella, Phoenix, Arizona, Court of Federal Claims No: 22-0444V

36. Kristen Linton on behalf of C. K., Phoenix, Arizona, Court of Federal Claims No: 22-0445V

37. Beverly Padratzik, Chicago, Illinois, Court of Federal Claims No: 22-0448V

38. Natalie Lawrence, Columbia, South Carolina, Court of Federal Claims No: 22-0450V

39. Katie Pendleton, Dayton, Ohio, Court of Federal Claims No: 22-0454V

40. Margarita Galvan, Houston, Texas, Court of Federal Claims No: 22-0455V

41. Eric Daniel and Chris Daniel on behalf of M. D., Phoenix, Arizona, Court of Federal Claims No: 22-0456V

42. Hanah Hilton on behalf of J. G., Phoenix, Arizona, Court of Federal Claims No: 22-0459V

43. Jason Craigle, Langhorne, Pennsylvania, Court of Federal Claims No: 22-0461V

44. Steven Hillstrom, Hancock, Michigan, Court of Federal Claims No: 22-0462V

45. Christopher James, Reston, Virginia, Court of Federal Claims No: 22-0463V

46. Angel Isai Rivera Gonzalez, San Juan, Puerto Rico, Court of Federal Claims No: 22-0464V

47. Corinne Fenn on behalf of R. F., Monroe, North Carolina, Court of Federal Claims No: 22-0465V

48. Larissa Aidone, Islip, New York, Court of Federal Claims No: 22-0467V

49. Lessie Williams, Greensboro, North Carolina, Court of Federal Claims No: 22-0469V

50. Nicholas J. Gauthier, Fort Hood, Texas, Court of Federal Claims No: 22-0470V

51. Gina Crete, Glens Falls, New York, Court of Federal Claims No: 22-0472V

52. Janet Solorio, Sacramento, California, Court of Federal Claims No: 22-0473V

53. John Giangiulio, Devon, Pennsylvania, Court of Federal Claims No: 22-0474V

54. Lisa Ortiz, Ocoee, Florida, Court of Federal Claims No: 22-0475V

55. Patricia Stewart-Robinson, Rego Park, New York, Court of Federal Claims No: 22-0477V

56. Royann Matsel on behalf of the Estate of David Matsel, Kansas City, Missouri, Court of Federal Claims No: 22-0478V

57. Amy Collins on behalf of H. C., Phoenix, Arizona, Court of Federal Claims No: 22-0479V

58. Yul Bernard, Boston, Massachusetts, Court of Federal Claims No: 22-0480V

59. Robert Long, El Cajon, California, Court of Federal Claims No: 22-0481V

60. Claudia Praetel on behalf of M. P., Phoenix, Arizona, Court of Federal Claims No: 22-0482V

61. Abby Vaughn, Barron, Wisconsin, Court of Federal Claims No: 22-0483V

62. Weiwei Dong and Xiangli Kong on behalf of V. K., Fairbanks, Alaska, Court of Federal Claims No: 22-0486V

63. Sharon Scott on behalf of S. S., Phoenix, Arizona, Court of Federal Claims No: 22-0487V

[FR Doc. 2022-14038 Filed 6-29-22; 8:45 am]

BILLING CODE 4165-15-P